POSTAL SERVICE

Board of Governors; Sunshine Act Meetings

TIME AND DATE: August 29, 2023, at 12:00 p.m.

PLACE: Washington, DC

STATUS: Closed.

MATTERS TO BE CONSIDERED:

Tuesday, August 29, 2023, at 12:00 p.m.

1. Financial Matters.

2. Administrative Items.

General Counsel Certification: The General Counsel of the United States Postal Service has certified that the meeting may be closed under the Government in the Sunshine Act.

CONTACT PERSON FOR MORE INFORMATION: Michael J. Elston, Secretary of the Board of Governors, U.S. Postal Service, 475 L'Enfant Plaza, SW, Washington, DC 20260-1000. Telephone: (202) 268-4800.

Michael J. Elston,
Secretary.

[FR Doc. 2023-18118 Filed 8-22-23; 4:15 pm]

BILLING CODE 7710-12-P